DEPARTMENT OF THE TREASURY

31 CFR Part 1

Treasury Inspector General for Tax Administration; Privacy Act of 1974; Implementation

AGENCY: Departmental Offices, Treasury.

ACTION: Final rule.

SUMMARY: In accordance with the requirements of the Privacy Act of 1974, as amended, the Department of the Treasury exempts the following six systems of records from provisions of the Privacy Act: DO .303-TIGTA General Correspondence; DO.306-TIGTA Recruiting and Placement; DO .307-TIGTA Employee Relations Matters, Appeals, Grievances, and Complaint Files; DO .308-TIGTA Data Extracts; DO .309-TIGTA Chief Counsel Case Files; and, DO .310-TIGTA Chief Counsel Disclosure Section Records.

EFFECTIVE DATE: April 2, 2004.

FOR FURTHER INFORMATION CONTACT: Lori Creswell, Assistant Chief Counsel, Treasury Inspector General for Tax Administration, 1125 15th Street, Room 700A, Washington, DC 20005, 202-622-4068.

SUPPLEMENTARY INFORMATION: The Department of Treasury published a notice of a proposed rule on September 22, 2003, at 68 FR 55016-55020 exempting six systems of records from certain provisions of the Privacy Act of 1974, as amended. The Department of Treasury published the systems notices in their entirety at 68 FR 55086-55098 (September 22, 2003).

Under 5 U.S.C. 552a(j)(2), the head of an agency may promulgate rules to exempt any system of records within the agency from certain provisions of the Privacy Act of 1974, as amended, if the system contains investigatory material and is maintained by an agency which performs as its principal function activities pertaining to the enforcement of criminal laws. The following systems contain investigatory material compiled by TIGTA, an agency that performs activities pertaining to the enforcement of criminal laws:

DO .303-TIGTA General Correspondence;

DO .307-TIGTA Employee Relations Matters, Appeals, Grievances, and Complaint Files;

DO .308-TIGTA Data Extracts;

DO .309-TIGTA Chief Counsel Case Files; and,

DO .310-TIGTA Chief Counsel Disclosure Section Records.

The provisions of the Privacy Act from which these systems of records are exempt pursuant to 5 U.S.C. 552a(j)(2) are as follows: 5 U.S.C. 552a(c)(3), (c)(4), (d), (d)(4), (e)(1), (e)(2), (e)(3), (e)(4)(G), (e)(4)(H), (e)(4)(I), (e)(5), (e)(8), (f), and (g).

Under 5 U.S.C. 552a(k)(2), the head of an agency may promulgate rules to exempt any system of records within the agency from certain provisions of the Privacy Act of 1974, as amended, if the system is investigatory material compiled for law enforcement purposes. The following systems contain investigatory material compiled for law enforcement purposes:

DO .303-TIGTA General Correspondence;

DO .307-TIGTA Employee Relations Matters, Appeals, Grievances, and Complaint Files;

DO .308-TIGTA Data Extracts;

DO .309-TIGTA Chief Counsel Case Files; and,

DO .310-TIGTA Chief Counsel Disclosure Section Records.

The provisions of the Privacy Act from which these systems of records are exempt pursuant to 5 U.S.C. 552a(k)(2) are as follows: 5 U.S.C. 552a(c)(3), (d), (e)(1), (e)(4)(G), (e)(4)(H) and (e)(4)(I), and (f).

Under 5 U.S.C. 552a(k)(5), the head of an agency may promulgate rules to exempt any system of records within the agency from certain provisions of the Privacy Act of 1974, as amended, if the system is investigatory material compiled for the purpose of determining suitability, eligibility, or qualifications for Federal civilian employment, Federal contracts, or access to classified information. DO. 306 TIGTA-Recruiting and Placement Records contains investigatory material compiled for use in determining suitability, eligibility or qualifications for Federal employment, Federal contracts, or access to classified information. The provisions of the Privacy Act from which this system of records is exempt pursuant to 5 U.S.C. 552a(k)(5) are as follows: 5 U.S.C. 552a(c)(3), (d), (e)(1), (e)(4)(G), (e)(4)(H), (e)(4)(I), and (f).

Under 5 U.S.C. 552a(k)(6), the head of an agency may promulgate rules to exempt a system of records from certain provisions of 5 U.S.C. 552a if the system is material used solely to determine individual qualifications for appointment or promotion in the Federal service. DO. 306 TIGTA-Recruiting and Placement Records contains material used to determine an individual's qualification for appointment or promotion in the Federal service. The provisions of the Privacy Act from which this system of records is exempt pursuant to 5 U.S.C. 552a(k)(6) are as follows: 5 U.S.C. 552a(c)(3), (d), (e)(1), (e)(4)(G), (e)(4)(H), (e)(4)(I), and (f).

The proposed rule requested that public comments be sent to the Office of Chief Counsel, Treasury Inspector General for Tax Administration, 1125 15th Street, NW., Suite 700A, Washington, DC 20005, no later than October 22, 2003.

TIGTA did not receive comments on the proposed rule. Accordingly, the Department of the Treasury is hereby giving notice that the following systems of records are exempt from certain provisions of the Privacy Act: DO .303-TIGTA General Correspondence; DO.306-TIGTA Recruiting and Placement; DO .307-TIGTA Employee Relations Matters, Appeals, Grievances, and Complaint Files; DO .308-TIGTA Data Extracts; DO .309-TIGTA Chief Counsel Case Files; and, DO .310-TIGTA Chief Counsel Disclosure Section Records.

As required by Executive Order 12866, it has been determined that this proposed rule is not a significant regulatory action, and therefore, does not require a regulatory impact analysis.

The regulation will not have a substantial direct effect on the States, on the relationship between the Federal Government and the States, or on the distribution of power and responsibilities among the various levels of government. Therefore, it is determined that this final rule does not have federalism implications under Executive Order 13132.

Pursuant to the requirements of the Regulatory Flexibility Act, 5 U.S.C. 601-612, it is hereby certified that these regulations will not significantly affect a substantial number of small entities. The final rule imposes no duties or obligations on small entities.

In accordance with the provisions of the Paperwork Reduction Act of 1995, the Department of the Treasury has determined that this final rule would not impose new record keeping, application, reporting, or other types of information collection requirements.

List of Subjects in 31 CFR Part 1

Privacy.

Part 1 Subpart C of Title 31 of the Code of Federal Regulations is amended as follows:

PART 1—[AMENDED]

1. The authority citation for part 1 continues to read as follows:

Authority: 5 U.S.C. 301, 31 U.S.C. 321, subpart A also issued under 5 U.S.C. 552, as amended. Subpart C also issued under 5 U.S.C. 552a.

2. Section 1.36 is amended as follows:

a. Paragraph (c)(1)(i) is amended by adding “DO .303-TIGTA General Correspondence; DO .307-TIGTA Employee Relations Matters, Appeals, Grievances, and Complaint Files; DO .308-TIGTA Data Extracts; DO .309-TIGTA Chief Counsel Case Files; DO .310-TIGTA Chief Counsel Disclosure Section Records” to the table in numerical order.

b. Paragraph (g)(1)(i) is amended by adding “DO .303-TIGTA General Correspondence; DO .307-TIGTA Employee Relations Matters, Appeals, Grievances, and Complaint Files; DO .308-TIGTA Data Extracts; DO .309-TIGTA Chief Counsel Case Files; DO .310-TIGTA Chief Counsel Disclosure Section Records” to the table in numerical order.

c. Paragraph (m)(1)(i) is amended by adding “DO .306-TIGTA Recruiting and Placement” to the table in numerical order.

d. Paragraph (o)(1) is amended by adding “DO .306-TIGTA Recruiting and Placement” to the table in numerical order. The additions to Sec. 1.36 read as follows:

§ 1.36 Systems exempt in whole or in part from provisions of 5 U.S.C. 522a and this part.

* * * * *

(c) * * *

(1) * * *

(i) * * *

Number | System name
DO .303 | TIGTA General Correspondence.
DO .307 | TIGTA Employee Relations Matters, Appeals, Grievances, and Complaint Files.
DO .308 | TIGTA Data Extracts.
DO .309 | TIGTA Chief Counsel Case Files.
DO .310 | TIGTA Chief Counsel Disclosure Section Records.

* * * * *

(g) * * *

(1) * * *

(i) * * *

Number | System name
* * * * *
DO .303 | TIGTA General Correspondence.
DO .307 | TIGTA Employee Relations Matters, Appeals, Grievances, and Complaint Files.
DO .308 | TIGTA Data Extracts.
DO .309 | TIGTA Chief Counsel Case Files.
DO .310 | TIGTA Chief Counsel Disclosure Section Records.

* * * * *

(m) * * *

(1) * * *

(i) * * *

Number | System name
* * * * *
DO .306 | TIGTA Recruiting and Placement.

* * * * *

(O) * * *

(1) * * *

Number | System name
DO .306 | TIGTA Recruiting and Placement.

* * * * *

Dated: March 25, 2004.
Mary Beth Shaw,
Acting Deputy Assistant Secretary for Headquarters Operations.

[FR Doc. 04-7413 Filed 4-1-04; 8:45 am]

BILLING CODE 4810-04-P